DEPARTMENT OF LABOR

Employment and Training Administration

[TA-W-72,965]

Hickory Dyeing and Winding Co., Inc.: Hickory, NC; Notice of Termination of Investigation

Pursuant to Section 223 of the Trade Act of 1974, as amended, an investigation was initiated in response to a petition filed on November 27, 2009, by a company official on behalf of workers of Hickory Dyeing and Winding Co., Inc., Hickory, North Carolina.

The petitioner has requested that the petition be withdrawn. Consequently, the investigation has been terminated.

Signed at Washington, DC this 23rd day of February, 2010.
Michael W. Jaffe,
Certifying Officer, Division of Trade Adjustment Assistance.

[FR Doc. 2010-6932 Filed 3-29-10; 8:45 am]

BILLING CODE 4510-FN-P